DEPARTMENT OF HEALTH AND HUMAN SERVICES

National Institutes of Health

National Institute of Environmental Health Sciences; Notice of Meeting

Pursuant to section 10(d) of the Federal Advisory Committee Act, as amended, notice is hereby given of the following meeting.

The meeting will be open to the public as indicated below, with attendance limited to space available. Individuals who plan to attend and need special assistance, such as sign language interpretation or other reasonable accommodations, should notify the Contact Person listed below in advance of the meeting.

The meeting will be closed to the public as indicated below in accordance with the provisions set forth in sections 552b(c)(4) and 552b(c)(6), Title 5 U.S.C., as amended for the review, discussion, and evaluation of individual intramural programs and projects conducted by the NATIONAL INSTITUTE OF ENVIRONMENTAL HEALTH SCIENCES, including consideration of personnel qualifications and performance, and the competence of individual investigators, the disclosure of which would constitute a clearly unwarranted invasion of personal privacy.

Name of Committee: Board of Scientific Counselors, NIEHS.

Date: March 28-30, 2021.

Closed: March 28, 2021, 4:00 p.m. to 6:00 p.m.

Agenda: To review and evaluate programmatic concerns and personnel qualifications.

Open: March 29, 2021, 10:00 a.m. to 11:30 a.m.

Agenda: Q & A Session.

Closed: March 29, 2021, 11:45 a.m. to 2:00 p.m.

Agenda: To review and evaluate programmatic concerns and personnel qualifications.

Open: March 29, 2021, 2:00 p.m. to 4:00 p.m.

Agenda: Poster Sessions.

Closed: March 29, 2021, 4:00 p.m. to 4:45 p.m.

Agenda: To review and evaluate to review and evaluate programmatic concerns and personnel qualifications.

Open: March 30, 2021, 10:00 a.m. to 11:15 a.m.

Agenda: Q & A Session.

Closed: March 30, 2021, 11:30 a.m. to 4:30 p.m.

Agenda: To review and evaluate to review and evaluate programmatic concerns and personnel qualifications.

Place: National Institute of Environmental Health Science, 111 T. W. Alexander Drive, Research Triangle Park, NC 27709 (Virtual Meeting).

Contact Person: Darryl C. Zeldin, Scientific Director & Principal Investigator, Division of Intramural Research, National Institute of Environmental Sciences, NIH, 111 T. W. Alexander Drive, Mail drop MSC A2-09, Research Triangle Park, NC 27709, 919-541-1169, zeldin@niehs.nih.gov.

Any interested person may file written comments with the committee by forwarding the statement to the Contact Person listed on this notice. The statement should include the name, address, telephone number and when applicable, the business or professional affiliation of the interested person.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: March 1, 2021.
David W. Freeman,
Program Analyst, Office of Federal Advisory Committee Policy.

[FR Doc. 2021-04522 Filed 3-4-21; 8:45 am]

BILLING CODE 4140-01-P